DEPARTMENT OF TRANSPORTATION

Federal Railroad Administration

Notice of Petitions for Approval; Railroad Safety Program Plans

Although not required, the Federal Railroad Administration (FRA) is providing notice that it has received petitions for approval of two Railroad Safety Program Plans (RSPP) submitted pursuant to 49 Code of Federal Regulations (CFR) part 236, subpart H. The individual petitions are described below, including the party seeking approval and the requisite docket numbers where the petitions and any related information may be found. These documents are available for public inspection; however, FRA is not accepting public comment on the documents as this notice is provided for information only.

Alaska Railroad Corporation (ARRC)

[Waiver Docket Number FRA-2007-27600]

ARRC submitted a petition for approval of an RSPP. The petition, the RSPP, and any related documents have been placed in the requisite docket and are available for public inspection.

Norfolk Southern Corporation (NS)

[Waiver Docket Number FRA-2006-26260]

NS submitted a petition for approval of an RSPP. The petition, the RSPP, and any related documents have been placed in the requisite docket and are available for public inspection.

All documents in the public docket are also available for inspection and copying on the Internet at the docket facility's Web site at http://dms.dot.gov.

You may review DOT's complete Privacy Act Statement in the Federal Register published on April 11, 2000 (Volume 65, Number 70; Pages 19477-78). The Statement may also be found at http://dms.dot.gov.

Issued in Washington, DC on April 9, 2007.
Grady C. Cothen Jr.,
Deputy Associate Administrator for Safety Standards and Program Development.

[FR Doc. E7-7069 Filed 4-12-07; 8:45 am]

BILLING CODE 4910-06-P